DEPARTMENT OF AGRICULTURE

Agricultural Marketing Service

[Doc. Number FV-09-0043]

United States Standards for Grades of Cultivated Ginseng

AGENCY: Agricultural Marketing Service, USDA.

ACTION: Notice.

SUMMARY: The Agricultural Marketing Service (AMS), of the Department of Agriculture (USDA), is soliciting comments on the proposed voluntary United States Standards for Grades of Cultivated Ginseng. AMS received a request from the Ginseng Board of Wisconsin (GBW), to amend the standards to reflect current market values. To ensure the integrity of the standards, the proposed revisions would be based on quality and percentage defects. The new grades would replace the current ones and promote the orderly and efficient marketing of ginseng in an evolving global economy. Other changes would include adding tolerances, reclassifying sizes, removing table “values,” and amending definitions. These revisions are needed to determine and complement the new grades.

DATES: Comments must be received by September 29, 2011.

ADDRESSES: Interested persons are invited to submit written comments to the Standardization Branch, Fresh Products Division, Fruit and Vegetable Programs, Agricultural Marketing Service, U.S. Department of Agriculture, National Training and Development Center, Riverside Business Park, 100 Riverside Parkway, Suite 101, Fredericksburg, VA 22406: Fax (540) 361-1199, or on the Web at: http://www.regulation.gvo. Comments should make reference to the dates and page number of this issue of the Federal Register and will be made available for public inspection in the above office during regular business hours. Comments can also be viewed on the http://www.regulations.gov Web site. The current United States Standards for Cultivated Ginseng, along with the proposed changes, will be available either through the address cited above or by accessing the AMS, Fresh Products Division Web site at: http://www.ams.usda.gov/freshinspection.

FOR FURTHER INFORMATION CONTACT: Dr. Carl Newell, at the above address or call (540) 361-1120.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs, and are available on the Internet at http://www.ams.usda.gov/freshinspection.

AMS is proposing to revise the voluntary United States Standards for Grades of Cultivated Ginseng using procedures that appear in part 36, Title 7 of the Code of Federal Regulations (7 CFR part 36).

Background

AMS received a request from the GBW on June 8, 2009, to revise the United States Standards for Grades of Cultivated Ginseng. The GBW represents shippers, processors and all the cultivated ginseng growers in Wisconsin. The initial inquiry requested AMS to add “unless otherwise specified” to the size table to accommodate changing market values. AMS believed that by allowing any specified value would undermine the integrity of the standards. To resolve the issue, AMS met with members of the GBW to revise the standards and develop new grades based solely on quality and percentage defects. The proposal would remove the current grades and replace them with seven new grades: U.S. No. 1 through U.S. No. 7, including tolerances for each grade. Further, the following size classifications would be created: Premium, Select, and Standard. In addition, the “values” would be removed from the size table in § .1330.

Other revisions would include redefining “Wrinkle” as “Texture,” removing “similar varietal characteristics,” adding a definition for “Length,” and rewriting most of the definitions. The grade determination section would also be amended to reflect new calculations without “values.” Further, an illustrated ginseng root would be included at the end of the standards.

The revisions are such that the section numbers in the proposed standards do not match the section numbers in the current standards. In an effort to clearly outline these proposed changes, the first column of the following chart shows the section as it currently reads. The second column shows the proposed change and the third column states why the change is being proposed.

United States Standards of Cultivated Ginseng
Current Standard | Proposed | Discussion
§ .1325 General. The standards apply to cultivated ginseng of similar characteristics, which is clean, well cured, free from external and internal defects, mold, rust and decay. The origin of the ginseng, color and/or wrinkle may be specified with the grade. | § .1325 General. The standards apply to cultivated ginseng, such as American ginseng (Panax quinquefolius) and Asian ginseng (Panax ginseng). Ginseng that grows wild or naturally, rather than being planted and cultivated domestically or commercially, is not covered under these standards. | The information reported in the current General Section would best be given in the Grade Section. The proposed General Section would provide an introduction to what type of ginseng is covered under the standards.
§ .1326 U.S. Premium. “U.S. Premium” consists of ginseng which has a graded value of 90 or more. | § .1326 Grades. All grades, U.S. No. 1 through U.S. No. 7, consists of ginseng which are of one root type, clean and well cured; which are free from external and internal defects, mold, and decay. The color and texture of the ginseng shall be specified with the grade; whereas, the origin may be specified with the grade. | The current grades are partially based on market values. Changing market values have caused the standards to become noncompetitive in the global market. New grades would be based solely on quality and percentage of defects.
§ .1327 U.S. Select. “U.S. Select” consists of ginseng which has a graded value of 75 to 98. § .1328 U.S. Medium. “U.S. Medium” consists of ginseng which has a graded value of 60 to 74. § .1329 U.S. Standard. “U.S. Standard” consists of ginseng which has a graded value of 0 to 59. | § .1327 Tolerances. In order to allow for variations incident to proper grading and handling in each of the foregoing grades, the following tolerances, by weight, reported to the nearest tenth of a percent, are provided as specified: (a) U.S. No. 1. 1 percent allowed for defects. (b) U.S. No. 2. More than 1 but not more than 5 percent allowed for defects. (c) U.S. No. 3. More than 5 but not more than 10 percent allowed for defects. (d) U.S. No. 4. More than 10 but not more than 25 percent allowed for defects. (e) U.S. No. 5. More than 25 but not more than 50 percent allowed for defects. (f) U.S. No. 6. More than 50 but not more than 75 percent allowed for defects. (g) U.S. No. 7. More than 75 percent allowed for defects. | The current grades have values assigned to them, originally based on market values. The values would be removed and replaced with grades determined by percentage of defects. The tolerance section would be added to define the percentage of defects allowed in each grade.
§ .1330 Size. Size is a factor in determining the grade. Size shall be in inches and fractions thereof, in minimum diameter, maximum diameter, minimum length, maximum length in the following categories: [table] | § .1328 Size Classifications. Size shall be determined in inches and fractions thereof, in diameter and length for the following Whole Root Size Categories listed in Table I. [Table I—Whole Root Size Categories] The following Size Classifications shall be reported in connection with the grade: (a) “Premium” is a lot consisting of more than 50 percent short ginseng of any category. (b) “Select” is a lot consisting of more than 70 percent short and medium ginseng of any category. (c) “Standard” is a lot consisting of more than 80 percent short, medium, and long ginseng of any category. | In the proposed standards, the terms “Premium,” “Select,” and “Standard” would no longer be grades but become size classifications reported in connection with the grade. The term “Medium” would be dropped since it may be confused with medium sized roots defined in Table I. The industry agreed that each grade would be qualified by a size category. The size categories would provide a more accurate description of the lot. The proposed “Table I—Whole Root Categories,” replacing the original table, would remove the “Value” column, “Fiber/Prong” row, and the “Culls/Foreign Material” row. The “Value” column would be removed since the grades would no longer be based on values. The “Fiber/Prong” and “Culls/Foreign Material” rows would be removed since they were only defined by values and not by diameter or length. Also, “Long” would replace “Large” printed in error under “Small” “Length (inches)” in Table I.
§ .1331 External Color. (a) “Light” means the color closest to “Light” on Visual Aid GIN. CC-1. (b) “Light Medium” means the color closest to “Light Medium” on Visual Aid GIN. CC-1. (c) “Medium” means the color closest to “Medium” on Visual Aid GIN. CC-1. (d) “Dark Medium” means the color closest to “Dark Medium” on Visual Aid GIN. CC-1. (e) “Dark” means the color closest to “Dark” on Visual Aid GIN. CC-1. | § .1329 External Color. “Color” shall be applied to the lot as a whole using the following terms: (a) “Light” means the color closest to “Light” on Visual Aid GIN. CC-1. (b) “Light Medium” means the color closest to “Light Medium” on Visual Aid GIN. CC-1. (c) “Medium” means the color closest to “Medium” on Visual Aid GIN. CC-1. (d) “Dark Medium” means the color closest to “Dark Medium” on Visual Aid GIN. CC-1. (e) “Dark” means the color closest to “Dark” on Visual Aid GIN. CC-1. | Except for the section number and first line, this section would remain the same. The first line would be added to clarify that color is applied to the lot as a whole and not to individual roots.
§ .1332 Wrinkle. (a) “Smooth” means the surface texture closest to “Smooth” on Visual Aid GIN. IDENT-1. (b) “Slight Wrinkle” means surface texture closest to “Slight Wrinkle” on Visual Aid GIN. IDENT-1. (c) “Wrinkle” means surface texture closest to “Wrinkle” on Visual Aid GIN. IDENT-1. | § .1330 Texture. “Texture” shall be applied to the lot as a whole using the following terms: (a) “Smooth” means the surface texture closest to “Smooth” on Visual Aid GIN. IDENT-1. (b) “Slight Wrinkle” means surface texture closest to “Slight Wrinkle” on Visual Aid GIN. IDENT-1. (c) “Wrinkle” means surface texture closest to “Wrinkle” on Visual Aid GIN. IDENT-1. | Except for the section number, title, and first line, this section would remain unchanged. The first line would be added to clarify that texture would be applied to the lot as a whole and not to the individual root. In addition, the title would be changed to “Texture” to remove any confusion between the section and the term “wrinkle” used in the definitions.
§ .1533 Sample and Sample Size. * * * * * | § .1331 Sample and Sample Size. * * * * * | Except for the section number, this section would remain unchanged.
§ .1334 Grade Determination. (a) Whole Root Score. Separate and/or break prongs and fiber from whole roots, weigh and record. Separate and weigh the culls and foreign material. Sort the balance of the sample into whole root size categories (See § 51.1330) and weigh each category. Determine the score for each category by dividing the category value by 450 (if grams) or 16 (if ounces) and multiply the result by the weight of the category. Add the scores for all the categories to determine the Whole Root Score. (b) Deductions. Weigh the External and Internal Defects and determine each percentage of the sample. Divide the External Defects percentage by 2 (i.e., 6% would be recorded as 3) to determine the External Defects deduction. The Internal Defects percentage is equal to the Internal Defects deduction. Add the External and Internal Defects deductions to determine the Total Root Deductions. (c) Graded Value. Subtract the Total Root Deductions from 100 and multiply the results by the Whole Root Score to determine the Graded Value. Locate the Graded Value in § 51.1326 to 51.1328 to assign the grade. | § .1332 Size Classification Determination. Separate whole roots from culls and foreign material, weigh and record. Clip or break off prongs and rootlets from whole roots, weigh and record. Sort whole roots into size categories (See § 51.1327) by first separating whole roots into diameter categories (Small, Medium, Large, Extra Large). Further separate diameter categories into length categories (Short, Medium, Long), weigh and record. Divide by the total weight of the sample minus the culls and foreign material to calculate the percentage of each length category. Add together the length category percentages using the size classification definitions (See § 51.1327 a, b, and c). Example: 19% Small Short, 23% Medium Short, and 10% Large Short totals 52%, making a Premium size lot. § .1332 Grade Determination. Weigh and record the external and internal defects and divide each by the total weight of the sample minus the prongs and rootlets to calculate the external defect percentage and internal defect percentage. Divide the external defect percentage by 2 (i.e., 6% would be recorded as 3%) to determine the External Defect Deduction. The internal deduction percentage is equal to the Internal Defects Deduction. Add the External and Internal Defects Deductions to calculate the Total Defect Percentage. The Total Defect Percentage will determine the grade of the lot (See § 51.1326). | The procedure for inspecting ginseng would remain unchanged. However, the formula for determining the grade would be different since the grade would not be based on values. Size would be determined first, followed by inspecting the ginseng for defects. Culls and foreign material would be excluded from the determination of size, whereas prongs and rootlets would be included. Prongs and rootlets would be excluded from the determination of grade, whereas culls and foreign material would be included.
§ .1335 Similar varietal characteristics. “Similar varietal characteristics” means the ginseng is the same variety and color. |  | This definition would be removed, since it would not be a requirement of the grade. Inspectors would not be required to distinguish the subtle differences between varieties. In addition, color would be applied to the lot, not on individual roots.
§ .1336 Clean. * * * * * | § .1334 Clean. * * * * * | Except for the section number, this definition would remain unchanged.
§ .1337 Well cured. * * * * * | § .1335 Well cured. * * * * * | Except for the section number, this definition would remain unchanged.
§ .1338 Prong. “Prong” means a root or portion of a root growing off the main root. | § .1336 Prong. “Prong” means a root or portion of a root growing off the main root. A prong cannot exceed more than one half the diameter of the main root. | The definition would be further qualified, so as not to confuse a prong with a whole root.
§ .1339 Whole root. “Whole root” means the main root or upper portion of the main root, and may or may not have prongs and/or fibers attached. Whole roots must have a tapered top or crown. | § .1337 Whole root. “Whole root” means the main root or upper portion of the main root, including any portion growing off the main root that is too large to be a prong. Whole roots must have a tapered top or crown. | This definition would be slightly modified to remove any confusion between a prong and a whole root.
§ .1340 Fiber. “Fiber” means small roots less than ⅛ inch in diameter. | § .1338 Rootlet. “Rootlet” means small slender roots less than ⅛ inch in diameter. | The term “fiber” has caused confusion. Therefore, “Rootlet” will be substituted for the term fiber to prevent further misidentification.
§ .1341 Diameter. “Diameter” means the greatest dimension at right angles to a line from the root crown or the point of attachment of the prong to the tip. Diameter shall be the greatest dimension, but not at the point of attachment of the prong. | § .1339 Diameter. “Diameter” means the greatest dimension at right angles to a line from the top of the whole root to the tip. Diameter shall not be measured at the point of attachment of a prong or the area where a prong was removed. | This definition would be slightly reworded for clarification.
| § .1340 Length. “Length” means the greatest dimension of the whole root measured in a straight line parallel to the longitudinal axis from the top of the whole root to the tip, not including any portion of the crown or rootlet, if present. | A definition for length is proposed. Length would be measured in a straight line and would not follow the curve of the root.
§ .1342 Defects. “Defects” means any mechanical, pathological and/or physiological defect consisting of cuts, external discoloration, internal green or red discoloration, insect, mold, scab or other means that affect the appearance or marketing quality. | § .1341 Defects. “Defects” means any mechanical, pathological and/or physiological defect consisting of cuts, external discoloration, internal green or red discoloration, insect, mold, scab, or other means that affect the appearance or marketing quality of the whole root. In addition, when the cut area left by a clipped or removed prong exceeds one half of the diameter of the root, it shall be a defect. | Rust would be removed from the definition since it is the same as discoloration. Further, at industry's request, a definition for an area left by clipped or removed prongs would be added.
§ .1343 Cull. “Cull” means any unusable portion. | § .1342 Cull. “Cull” means more than 50 percent of the whole root is unusable. | This definition would define “unusable portion” to provide a clearer guide as to what is a cull.
§ .1344 Origin. * * * * * | § .1343 Origin. * * * * * | Except for the section number, this definition remains unchanged.
| § .1344 [Reserved] | This section would be reserved if needed at a later time.
| Illustration Ginseng 1 | An illustration of a ginseng root would be added at the end of the standards, which defines the parts of the root, what should be clipped, and the correct determination for length and diameter.

The proposed revisions will benefit the industry by allowing the marketing of ginseng in the U.S. to be competitive in a changing and demanding global market. A 30-day period is provided for interested persons to comment. This period is deemed appropriate in order to implement these changes, if adopted, as soon as possible to reflect current marketing practices.

Authority: 7 U.S.C. 1621-1627.

Dated: August 19, 2011.
David R. Shipman,
Acting Administrator, Agricultural Marketing Service.

[FR Doc. 2011-22117 Filed 8-29-11; 8:45 am]

BILLING CODE 3410-02-P